DEPARTMENT OF THE TREASURY

Submission for OMB Review; Comment Request

June 7, 2011.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before July 13, 2011 to be assured of consideration.

Internal Revenue Service (IRS)

OMB Number: 1545-New.

Type of Review: New collection.

Title: Certain Fuel Products Report.

Form: 720-CF.

Abstract: Form 720-CF is an information return that will be used by fuel producers, importers/enterers, resellers and/or blenders to report their monthly receipts including production, deliveries to a terminal and sales of certain fuel products. To ensure reporting and filing compliance, this information is needed by the Service to properly track the movement of fuel between these entities and the terminal operators and carrier operators that are currently filing forms 720-TO/CS.

Respondents: Private sector: Businesses or other for-profits.

Estimated Total Burden Hours: 518,361.

OMB Number: 1545-1465.

Type of Review: Extension without change of a currently approved collection.

Title: TD 8668—Environmental Settlement Funds—Classification.

Abstract: Section 7701 and the regulations thereunder classify entities for federal tax purposes as partnerships, associations, and trusts. Section 671 requires a grantor treated as an owner of a portion of a trust to include items in income. This regulation provides reporting rules.

Respondents: Private sector: Business or other for-profit.

Estimated Total Burden Hours: 2,000.

OMB Number: 1545-1548.

Type of Review: Extension without change of a currently approved collection.

Title: Revenue Procedure 2003-43, Late Election Relief for S Corporations; Revenue Procedure 2004-48, Deemed Corporate Election for Late Electing S Corporations.

Abstract: The IRS will use the information provided by taxpayers under this revenue procedure to determine whether relief should be granted for the relevant late election.

Respondents: Private sector: Businesses or other for-profits.

Estimated Total Burden Hours: 50,000.

OMB Number: 1545-1757.

Type of Review: Extension without change of a currently approved collection.

Title: TD 9036—Disclosure of Returns and Return Information by Other Agencies.

Abstract: In general, under the regulations, the IRS is permitted to authorize agencies with access to returns and return information under section 6103 of the Internal Revenue Code to redisclose returns and return information based on a written request and with the Commissioner's approval, to any authorized recipient set forth in Code section 6103, subject to the same conditions and restrictions, and for the same purposes, as if the recipient had received the information from the IRS directly.

Respondents: State and Local Agencies.

Estimated Total Burden Hours: 11.

OMB Number: 1545-1912.

Type of Review: Extension without change of a currently approved collection.

Title: Election of Partnership Level Tax Treatment.

Form: 8893.

Abstract: IRC section 6231(a)(1)(B)(ii) allows small partnerships to elect to be treated under the unified audit and litigation procedures. Form 8893 will allow IRS to better track these elections by providing a standardized format for this election.

Respondents: Private Sector: Businesses or other for-profits.

Estimated Total Burden Hours: 227.

OMB Number: 1545-1915.

Type of Review: Extension without change of a currently approved collection.

Title: Notice 2005-4, Fuel Tax Guidance, as modified by Notice 2005-24.

Abstract: Notice 2005-4 provides guidance on certain excise tax provisions in the Internal Revenue Code that were added or affected by the American Jobs Creation Act of 2004 (Pub. L. 108-357) (Act). These provisions relate to: alcohol and biodiesel fuels; the definition of off-highway vehicles; aviation-grade kerosene; claims related to diesel fuel used in certain buses; the display of registration on certain vessels; claims related to sales of gasoline to state and local governments and nonprofit educational organizations; two party exchanges of taxable fuel; and the classification of transmix and certain diesel fuel blendstocks as diesel fuel. Notice 2005-24 modifies Notice 2005-4, by extending the transitional rule related to sales of gasoline on oil company credit cards and by making several corrections to Notice 2005-4.

Respondents: Private Sector: Businesses or other for-profits.

Estimated Total Burden Hours: 76,190.

OMB Number: 1545-2202.

Type of Review: Extension without change of a currently approved collection.

Title: New Hire Retention Credit.

Form: 5884-B.

Abstract: Form 5884-B, New Hire Retention Credit, was developed to carry out the provisions of section 102 of the Hiring Incentives to Restore Employment (HIRE) Act (Public Law (P.L.) 111-147). The new form provides a means for employers to calculate and claim the credit. This credit is a new non-Code general business credit and the form is required to be attached to the tax return.

Respondents: Private Sector: Businesses or other for-profits, Farms, Not-for-profit institutions.

Estimated Total Burden Hours: 13,815,000.

Bureau Clearance Officer: Yvette Lawrence, Internal Revenue Service, 1111 Constitution Avenue, NW., Washington, DC 20224; (202) 927-4374.

OMB Reviewer: Shagufta Ahmed, Office of Management and Budget, New Executive Office Building, Room 10235, Washington, DC 20503; (202) 395-7873.

Dawn D. Wolfgang,
Treasury PRA Clearance Officer.

[FR Doc. 2011-14502 Filed 6-10-11; 8:45 am]

BILLING CODE 4810-01-P